DEPARTMENT OF TRANSPORTATION

Research and Special Programs Administration

International Standards on the Transport of Dangerous Goods; Public Meetings

AGENCY: Research and Special Programs Administration (RSPA), Department of Transportation.

ACTION: Notice of public meeting.

SUMMARY: This notice is to advise interested persons that RSPA will conduct a public meeting in preparation for the nineteenth session of the United Nation's Sub-Committee of Experts on the Transport of Dangerous Goods (UNSCOE) to be held July 2-6, 2000 in Geneva, Switzerland and the first session of the United Nation's Sub-Committee on the Globally Harmonized System of Classification and Labeling of Chemicals (Geneva, Switzerland—July 9-11, 2001).

DATES: June 19, 2001, 9:30 am-12:30 pm, Room 6332-6336.

ADDRESSES: The meeting will be held at DOT Headquarters, Nassif Building, Room 6332-6336, 400 Seventh Street SW., Washington, DC 20590.

FOR FURTHER INFORMATION CONTACT: Bob Richard, Acting International Standards Coordinator, Office of Hazardous Materials Safety, Department of Transportation, Washington, DC 20590; (202) 366-0656.

SUPPLEMENTARY INFORMATION: The primary purpose of the meeting will be to prepare and discuss positions for the nineteenth session of the UNSCOE and the first session of the United Nation's Sub-Committee on the Globally Harmonized System of Classification and Labeling of Chemicals. Topics to be covered during the public meeting will include (1) Global harmonization of classification criteria, (2) Criteria for Environmentally Hazardous Substances, (3) Intermodal requirements for the transport of solids in bulk containers, (4) Harmonized requirements for compressed gas cylinders, (5) Classification of individual substances, (6) Requirements for packagings used to transport hazardous materials, (7) Requirements for infectious substances, and (8) Hazard communication requirements. The meeting will be held in conjunction with the Coast Guard's public meeting in preparation for the sixth session of the Dangerous Goods, Solid Cargoes and Containers Sub-Committee. This public meeting will be held from 1:00-3:30 pm on June 19, 2001 in Nassif Bldg. Room 6332-6336.

The public is invited to attend without prior notification.

Documents

Copies of documents for the UNSCOE meeting may be obtained by downloading them from the United Nations Transport Division's web site at http://www.unece.org/trans/main/dgdb/dgsubc/c3doc.html. Information concerning UN dangerous goods meetings include agendas can be downloaded at http://www.unece.org/trans/main/dgdb/dgsubc/c3.html. These sites may also be accessed through RSPA's Hazardous Materials Safety Homepage at http://hazmat.dot.gov/intstandards.htm. RSPA's site provides information regarding the UNSCOE and the Globally Harmonized System of Classification and Labeling for Chemicals, a summary of decisions taken at the 21st session of the UN Committee of Experts, meeting dates and a summary of the primary topics which are to be addressed in the 2001-2002 biennium.

Robert A. McGuire,
Associate Administrator for Hazardous Materials Safety.

[FR Doc. 01-11708 Filed 5-8-01; 8:45 am]

BILLING CODE 4910-60-M